DEPARTMENT OF HEALTH AND HUMAN SERVICES

Office of the Secretary

[Document Identifier: HHS-OS-0990-New—60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting the ICR to OMB, OS seeks comments from the public regarding the burden estimate, below, or any other aspect of the ICR.

DATES: Comments on the ICR must be received on or before June 28, 2016.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-0990-New-60D for reference.

Information Collection Request Title: Office on Women's Health: IPV Provider Network Cross-Site Evaluation

Abstract: The Affordable Care Act (PHS 2713) requires health insurance plans to cover preventive care and screening for women as defined by the Health Resources and Services Administration (HRSA) Women's Preventive Services Guidelines, including screening and counseling for interpersonal and domestic violence. In addition, the U.S. Preventive Services Task Force released a recommendation for IPV (interpersonal violence) screening in clinical settings. As part of the administration's efforts to create a health system that better addresses the needs of IPV victims, the Office on Women's Health (OWH) at the U.S. Department of Health and Human Services has established the IPV Provider Network program. The program requires partnerships between health care providers and IPV service programs to evaluate systems for integrating IPV interventions into basic clinical care. Each of the five selected OWH grantees is required to establish Memoranda of Understanding with 5 to 10 partners that provide services (e.g., legal, housing, substance use, mental health) to clients referred by the grantee health providers. The overall goal of the IPV Provider Network project is to understand and assess the strategies implemented by the five different IPV Provider Network programs designed to improve care coordination for IPV screening/referred patients. OWH will use program assessment findings to support future work with federal and state partners to disseminate the evidence-based strategies that are created. The purpose of this data collection is to gather data from the grantees' service provider partners to answer the research question: What feedback is available from the service partners to refine the IPV referral and follow-up processes? OWH contractor NORC at the University of Chicago will collect and analyze two sources of primary data. The first data source will be a brief online survey administered to a single representative of each of the partners, assessing (a) the partnership with the respective OWH grantee's health care provider and (b) the services that partner provides to the women referred by the health care provider. The second data source is a key informant interview with a single representative of each partner, providing a mechanism for the key informant to elaborate on their agency's survey response data. Direct contact with the partners is necessary to understand the nature of each grantee's provider network partnerships, including what works and what does not work.

Likely Respondents: Medical and Health Services Managers.

Total Estimated Annualized Burden—Hours
Form name | Number of respondents | Number of responses per respondent | Average burden per response (in hours) | Total burden hours
Semi-annual online Service Provider Assessments | 50 | 2 | 30/60 | 50/60
Key informant interviews | 50 | 1 | 1 | 50/60
Total |  |  |  | 100

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Terry S. Clark,
Asst. Information Collection Clearance Officer.

[FR Doc. 2016-10066 Filed 4-28-16; 8:45 am]

BILLING CODE 4150-33-P